ENVIRONMENTAL PROTECTION AGENCY

[FRL-7499-6]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in the following case filed in the U.S. Court of Appeals for the District of Columbia Circuit: Antek Instruments v. EPA, No. 00-1149. This case concerns the U.S. Environmental Protection Agency's (EPA) promulgation of regulations requiring refiners and importers of gasoline to control sulfur content in their product and to test for sulfur content using a specified test procedure.

DATES: Written comments on the proposed settlement agreement must be received by June 16, 2003.

ADDRESSES: Copies of the proposed settlement are available from Phyllis Cochran, Air and Radiation Division (2344A), Office of General Counsel, U.S. Environmental Protection Agency, 1200 Pennsylvania Avenue, NW., Washington, DC 20460, (202)564-7606. Written comments should be sent to Susmita Dubey at the above address and must be submitted on or before June 16, 2003.

SUPPLEMENTARY INFORMATION: In February 2000, EPA promulgated regulations limiting sulfur content in gasoline. 65 FR 6698 (April 10, 2000). The regulations include a requirement that gasoline refiners and importers test their product for sulfur content using a specified test procedure. Antek Instruments filed a petition challenging the final rule. EPA and Antek entered into negotiations and have reached a proposed settlement of this litigation. The proposed settlement agreement outlines a rulemaking proposal to identify alternative sulfur test procedures that can be used to satisfy the regulatory testing requirement, if the resulting test result is correlated with the rule's primary test method.

For a period of thirty (30) days following the date of publication of this notice, EPA will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

Dated: May 8, 2003.
Lisa K. Friedman,
Associate General Counsel, Air and Radiation Law Office.

[FR Doc. 03-12358 Filed 5-15-03; 8:45 am]

BILLING CODE 6560-50-P